FEDERAL COMMUNICATIONS COMMISSION

Network Reliability and Interoperability Council

AGENCY: Federal Communications Commission.

ACTION: Notice of cancellation of public meeting.

SUMMARY: In accordance with the Federal Advisory Committee Act, 5 U.S.C. App. 2, Public Law 92-463, as amended, this notice advises interested persons that the meeting of he Network Reliability and Interoperability Council scheduled for June 28, 2005 has been cancelled.

FOR FURTHER INFORMATION CONTACT: Jeffery Goldthorp at (202) 418-1096, TTY (202) 418-2989, or e-mail Jeffery-Goldthorp@fcc.gov.

Federal Communications Commission.
Marlene H. Dortch,
Secretary.

[FR Doc. 05-12321 Filed 6-21-05; 8:45 am]

BILLING CODE 6712-01-P